DEPARTMENT OF LABOR

Employment and Training Administration

[TA-W-64,715; TA-W-64,715A; TA-W-64,715B; TA-W-64,715C; TA-W-64,715D; TA-W-64,715E; TA-W-64,715F; TA-W-64,715G; TA-W-64,715H; TA-W-64,715I; TA-W-64,715J]

Amended Certification Regarding Eligibility To Apply for Worker Adjustment Assistance and Alternative Trade Adjustment Assistance

TA-W-64,715

Cadence Innovation, LLC Groesbeck Plant Including On-Site Leased Workers from Michigan Staffing, LLC, Modern Professional Services, LLC, TAC Transportation, and Time Services, Inc. Clinton Township, Michigan;

TA-W-64,715A

Cadence Innovation, LLC Metrology Location Including On-Site Leased Workers from Michigan Staffing, LLC, Modern Professional Services, LLC, TAC Transportation, and Time Services, Inc. Chesterfield Township, Michigan;

TA-W-64,715B

Cadence Innovation, LLC Chesterfield Plant Including On-Site Leased Workers from Michigan Staffing, LLC, Modern Professional Services, LLC, TAC Transportation, and Time Services, Inc. Chesterfield Township, Michigan;

TA-W-64,715C

Cadence Innovation, LLC Information Systems Technology Including On-Site Leased Workers from Michigan Staffing, LLC, Modern Professional Services, LLC, TAC Transportation, and Time Services, Inc. Chesterfield Township, Michigan;

TA-W-64,715D

Cadence Innovation, LLC Hillsdale Plant Including On-Site Leased Workers from Michigan Staffing, LLC, Modern Professional Services, LLC, TAC Transportation, and Time Services, Inc. Hillsdale, Michigan;

TA-W-64,715E

Cadence Innovation, LLC Hartford Plant Including On-Site Leased Workers from Michigan Staffing, LLC, Modern Professional Services, LLC, TAC Transportation, and Time Services, Inc. Hartford City, Indiana;

TA-W-64,715F

Cadence Innovation, LLC 17400 Malyn Street Including On-Site Leased Workers from Michigan Staffing, LLC, Modern Professional Services, LLC, TAC Transportation, and Time Services, Inc. Fraser, Michigan;

TA-W-64,715G

Cadence Innovation, LLC 17350 Malyn Street Including On-Site Leased Workers from Michigan Staffing, LLC, Modern Professional Services, LLC, TAC Transportation, and Time Services, Inc. Fraser, Michigan;

TA-W-64,715H

Cadence Innovation, LLC 17300 Malyn Street Including On-Site Leased Workers from Michigan Staffing, LLC, Modern Professional Services, LLC, TAC Transportation, and Time Services, Inc. Fraser, Michigan;

TA-W-64,715I

Cadence Innovation, LLC Processing Center Including On-Site Leased Workers from Michigan Staffing, LLC, Modern Professional Services, LLC, TAC Transportation, and Time Services, Inc. Fraser, Michigan;

TA-W-64,715J

Cadence Innovation, LLC Commerce Location Including On-Site Leased Workers from Michigan Staffing, LLC, Modern Professional Services, LLC, TAC Transportation and Time Services, Inc. Fraser, Michigan.

In accordance with Section 223 of the Trade Act of 1974, (19 U.S.C. 2273), and Section 246 the Trade Act of 1974 (26 U.S.C. 2813), as amended, the Department of Labor issued a Certification of Eligibility to Apply for Worker Adjustment Assistance and Alternative Trade Adjustment Assistance on February 6, 2009, applicable to workers of Cadence Innovation, LLC, Incorporated, including on-site leased workers from Michigan Staffing, LLC, Modern Professional Services, LLC, and TAC Transportation at the following locations: Cadence Innovation, LLC, Groesbeck Plant, Clinton Township, Michigan (TA-W-64,715); Cadence Innovation, LLC, Metrology Location, Chesterfield Township, Michigan (TA-W-64,715A); Cadence Innovation, Chesterfield Plant, Chesterfield Township, Michigan (TA-W-64,715B); Cadence Innovation, LLC, Information Systems Technology Location, Chesterfield Township, Michigan (TA-W-64,715C); Cadence Innovation, LLC, Hillsdale Plant, Hillsdale, Michigan (TA-W-64,715D); Cadence Innovation, LLC, Hartford City Plant, Hartford City, Indiana (TA-W-64,715E); Cadence Innovation, LLC, 17400 Malyn Street Location, Fraser, Michigan (TA-W-64,715F); Cadence Innovation, LLC, 17350 Malyn Street Location, Fraser, Michigan (TA-W-64,715G); Cadence Innovation, LLC, 17300 Malyn Street, Fraser, Michigan (TA-W-64,715H); Cadence Innovation, LLC, Processing Center, Fraser, Michigan (TA-W-64,715I); and Cadence Innovation, LLC, Commerce Location, Fraser, Michigan (TA-W-64,715J). The notice was published in the Federal Register on March 3, 2009 (74 FR 9282-9283).

At the request of the State agency, the Department reviewed the certification for workers of the subject firm. The workers are engaged in the production of vehicle interior systems such as instrument panels, door panels, load floors, quarter panels and consoles.

The intent of the Department's certification is to include all secondarily affected workers employed at the above mentioned locations of Cadence Innovation, LLC.

New information shows that workers leased from Time Services, Inc. were employed on-site at the above mentioned locations of Cadence Innovation, LLC. The Department has determined that these workers were sufficiently under the control of the subject firm to be considered leased workers.

Based on these findings, the Department is amending this certification to include leased workers from Time Services, Inc. working on-site at the above mentioned locations of Cadence Innovation, LLC.

The amended notice applicable to TA-W-64,715 is hereby issued as follows:

“All workers of Cadence Innovation, LLC, Groesbeck Plant, Clinton Township, Michigan, including on-site leased workers from Michigan Staffing, LLC, Modern Professional Services, LLC, TAC Transportation, and Time Services, Inc. (TA-W-64,715); Cadence Innovation, LLC, Metrology Location, Chesterfield Township, Michigan, including on-site leased workers from Michigan Staffing, LLC, Modern Professional Services, LLC, TAC Transportation and Time Services, Inc. (TA-W-64,715A); Cadence Innovation, LLC, Chesterfield Plant, Chesterfield Township, Michigan, including on-site leased workers from Michigan Staffing, LLC, Modern Professional Services, LLC, TAC Transportation, and Time Services, Inc. (TA-W-64,715B); Cadence Innovation, LLC, Information Systems Technology Location, Chesterfield Township, Michigan, including on-site leased workers from Michigan Staffing, LLC, Modern Professional Services, LLC, TAC Transportation, and Time Services, Inc. (TA-W-64,715C); Cadence Innovation, LLC, Hillsdale Plant, Hillsdale, Michigan, including on-site leased workers from Michigan Staffing, LLC, Modern Professional Services, LLC, TAC Transportation, and Time Services, Inc. (TA-W-64,715D); Cadence Innovation, LLC, Hartford City Plant, Hartford City, Indiana, including on-site leased workers from Michigan Staffing, LLC, Modern Professional Services, LLC, TAC Transportation, and Time Services, Inc. (TA-W-64,715E); Cadence Innovation, LLC, 17400 Malyn Street Location, Fraser, Michigan, including on-site leased workers from Michigan Staffing, LLC, Modern Professional Services, LLC, TAC Transportation, and Time Services, Inc. (TA-W-64,715F); Cadence Innovation, LLC, 17350 Malyn Street Location, Fraser, Michigan, including on-site leased workers from Michigan Staffing, LLC, Modern Professional Services, LLC, TAC Transportation, and Time Services, Inc. (TA-W-64,715G); Cadence Innovation, LLC, 17300 Malyn Street, Fraser, Michigan, including on-site leased workers from Michigan Staffing, LLC, Modern Professional Services, LLC, TAC Transportation, and Time Services, Inc. (TA-W-64,715H); Cadence Innovation, LLC, Processing Center, Fraser, Michigan, including on-site leased workers from Michigan Staffing, LLC, Modern Professional Services, LLC, TAC Transportation, and Time Services, Inc. (TA-W-64,715I); and Cadence Innovation, LLC, Commerce Location, Fraser, Michigan, including on-site leased workers from Michigan Staffing, LLC, Modern Professional Services, LLC, TAC Transportation, and Time Services, Inc. (TA-W-64,715J), who became totally or partially separated from employment on or after December 15, 2007 through February 6, 2011, are eligible to apply for adjustment assistance under Section 223 of the Trade Act of 1974, and are also eligible to apply for alternative trade adjustment assistance under Section 246 of the Trade Act of 1974.”

Signed at Washington, DC, this 3rd day of August, 2009.
Linda G. Poole,
Certifying Officer, Division of Trade Adjustment Assistance.

[FR Doc. E9-20448 Filed 8-25-09; 8:45 am]

BILLING CODE 4510-FN-P